DEPARTMENT OF COMMERCE

National Oceanic and Atmospheric Administration

RIN 0648-XO18

Western Pacific Fishery Management Council; Public Meetings

AGENCY: National Marine Fisheries Service (NMFS), National Oceanic and Atmospheric Administration (NOAA), Commerce.

ACTION: Notice of public meeting.

SUMMARY: The Western Pacific Fishery Management Council (Council) will hold a meeting of its Marine Mammal Advisory Committee (MMAC).

DATES: The MMAC meeting will be held on April 6-7, 2009, from 8:30 a.m. to 5 p.m.

ADDRESSES: The meeting will be held at the Council Office Conference Room, 1164 Bishop Street, Suite 1400, Honolulu, HI; telephone: (808) 522-8220.

FOR FURTHER INFORMATION CONTACT: Kitty M. Simonds, Executive Director; telephone: (808) 522-8220.

SUPPLEMENTARY INFORMATION: The MMAC will review recent research and activities related to cetacean interactions and depredation in longline fisheries, and produce recommendations for future research and activities.

Special Accommodations

These meetings are physically accessible to people with disabilities. Requests for sign language interpretation or other auxiliary aids should be directed to Kitty M. Simonds, (808) 522-8220 (voice) or (808) 522-8226 (fax), at least five days prior to the meeting date.

Authority: 16 U.S.C. 1801 et seq.

Dated: March 16, 2009
Tracey L. Thompson,
Acting Director, Office of Sustainable Fisheries, National Marine Fisheries Service.

[FR Doc. E9-5938 Filed 3-18-09; 8:45 am]

BILLING CODE 3510-22-S